GENERAL SERVICES ADMINISTRATION

[OMB Control No. 3090-0303; Docket No. 2025-0001; Sequence No. 9]

Submission for OMB Review; General Services Administration Acquisition Regulation; Federal Supply Schedule Solicitation Information

AGENCY: Office of Acquisition Policy, General Services Administration (GSA).

ACTION: Notice; request for public comments.

SUMMARY: Under the provisions of the Paperwork Reduction Act, the Regulatory Secretariat Division will be submitting to the Office of Management and Budget (OMB) a request to review and approve a revision of a previously approved information collection requirement regarding Federal Supply Schedule Solicitation Information.

DATES: Submit comments on or before: August 25, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Thomas O'Linn, Procurement Analyst, General Services Acquisition Policy Division, GSA, by phone at 202-445-0390 or by email at thomas.olinn@gsa.gov.

SUPPLEMENTARY INFORMATION:

A. Purpose

This information requirement consists of information used by contracting officers awarding GSA Multiple Award Schedule (MAS) (also known as Federal Supply Schedule (FSS)) contracts in the review and evaluation of offers.

B. Annual Reporting Burden

The annual total annual public hour burden for this information collection is estimated to be 41,658 total hours. Annual reporting burdens include the estimated respondents with one (1) submission per respondent multiplied by preparation hours per response to get the total response burden hours.

GSAR clause 552.238-84, Discounts for Prompt Payment. This clause requests an offeror to identify in their offer any discounts for early payment.

Respondents: 1,590.

Responses per respondent: 1.

Total annual responses: 1,590.

Preparation hours per response: .50 (30 minutes).

Total response burden hours: 795.

GSAR clause 552.238-87, Delivery Prices. This clause requests an offeror to identify in their offer whether or not prices submitted cover delivery f.o.b. destination in Alaska, Hawaii, and the Commonwealth of Puerto Rico.

Respondents: 1,590.

Responses per respondent: 1.

Total annual responses: 1,590.

Preparation hours per response: .50 (30 minutes).

Total response burden hours: 795.

GSAR clause 552.238-95, Separate Charge for Performance Oriented Packaging (POP)**. This clause requests an offeror, if applicable, to identify any hazardous material item (i.e., SIN or Descriptive Name of Article) being offered and the separate charge that applies.

Respondents: 1,590.

Responses per respondent: 1.

Total annual responses: 1,590.

Preparation hours per response: .50 (30 minutes).

Total response burden hours: 795.

GSAR clause 552.238-96, Separate Charge for Delivery within Consignee's Premises**. This clause requests an offeror, as applicable, to identify any separate charge(s) for shipping when the delivery is within the consignee's premises (inclusive of items that are comparable in size and weight).

Respondents: 1,590.

Responses per respondent: 1.

Total annual responses: 1,590.

Preparation hours per response: .50 (30 minutes).

Total response burden hours: 795.

GSAR clause 552.238-97, Parts and Service. This clause requests an offeror, if applicable, to include in their offer the names and addresses of all supply and service points maintained in the geographic area in which the offeror would perform under the GSA FSS contract (if awarded one). Additionally, requests an offeror to indicate whether or not a complete stock of repair parts for the items being offered is carried at that point, and whether or not mechanical service is available.

Respondents: 1,590.

Responses per respondent: 1.

Total annual responses: 1,590.

Preparation hours per response: .50 (30 minutes).

Total response burden hours: 795.

GSAR clause 552.238-99, Delivery Prices Overseas. This clause requests an offeror to identify the intended geographic area(s)/countries/zones which are covered by their offer.

Respondents: 1,590.

Responses per respondent: 1.

Total annual responses: 1,590.

Preparation hours per response: .50 (30 minutes).

Total response burden hours: 795.

GSAR clause 552.238-111, Environmental Protection Agency Registration Requirement**. This clause requests offerors, if applicable, to identify the manufacturer's and/or distributor's name and EPA Registration Number for each item offered that requires registration with the EPA.

Respondents: 1,590.

Responses per respondent: 1.

Total annual responses: 1,590.

Preparation hours per response: 1.0 (1 hr.).

Total response burden hours: 1,590.

** This clause applies to specific GSA MAS solicitation large categories.

GSAR provision 552.238-118, Single-use Plastic (SUP) Free Packaging Identification. The provision applies when the resulting contract includes supplies or products. The provision provides the option for offerors to submit information about SUP free brand packaging and SUP free shipping packaging.

Respondents: 1,590.

Responses per respondent: 1.

Total annual responses: 1,590.

Preparation hours per response: 2.1.

Total response burden hours: 3,339.

GSAR clause 552.238-119, Single-use Plastic (SUP) Free Packaging Availability. The clause provides the option for contractors to submit information about SUP free brand packaging and SUP free shipping packaging.

Respondents: 1,590.

Responses per respondent: 1.

Total annual responses: 1,590.

Preparation hours per response: 20.1.

Total response burden hours: 31,959.

C. Public Comments

A 60-day notice was published in the Federal Register at 90 FR 21929 on May 22, 2025. No comments were received.

Obtaining Copies of Proposals: Requesters may obtain a copy of the information collection documents from the General Services Administration, Regulatory Secretariat Division (MVCB), 1800 F Street NW, Washington, DC 20405, telephone 202-501-4755. Please cite OMB Control No. 3090-0303, Federal Supply Schedule Solicitation Information, in all correspondence.

Jeffrey A. Koses,
Senior Procurement Executive, Office of Acquisition Policy, Office of Government-wide Policy.

[FR Doc. 2025-14048 Filed 7-24-25; 8:45 am]

BILLING CODE 6820-61-P